DEPARTMENT OF COMMERCE

National Oceanic and Atmospheric Administration

50 CFR Part 648

[Docket No. 140902739-5224-02; RTID 0648-XX007]

Fisheries of the Northeastern United States; Atlantic Mackerel, Squid, and Butterfish Fishery; 2019 Illex Squid Quota Harvested

AGENCY: National Marine Fisheries Service (NMFS), National Oceanic and Atmospheric Administration (NOAA), Commerce.

ACTION: Temporary rule; reduction of possession limit.

SUMMARY: Beginning August 21, 2019, through December 31, 2019, Federal Illex squid vessel permit holders are prohibited from fishing for, catching, possessing, transferring or landing more than 10,000 lb (4,535 kg) of Illex squid per trip, and from landing Illex squid more than once per calendar day. This prohibition is effective when NMFS projects that 95 percent of the 2019 annual catch limit will have been caught by the effective date. This action is intended to prevent over harvest of Illex squid for the fishing year.

DATES: Effective 0001 hr local time, August 21, 2019, through December 31, 2019.

FOR FURTHER INFORMATION CONTACT: Alyson Pitts, Fishery Management Specialist, (978) 281-9352.

SUPPLEMENTARY INFORMATION: Regulations for the Illex squid fishery are at 50 CFR part 648. The regulations at § 648.24(a)(2) require that when the Regional Administrator projects that Illex squid catch will reach 95 percent of the domestic annual harvest (DAH) quota, NMFS must prohibit Federal Illex squid vessel permit holders from directed fishing. Vessels may not catch, possess, transfer, or land more than 10,000 lb (4,535 kg) of Illex squid per trip, or land Illex squid more than once per calendar day. The Regional Administrator monitors the Illex squid fishery catch annually based on dealer reports, state data, and other available information. When 95 percent of the DAH has been reached, NMFS must provide at least 72 hours of notice to the public that it made this determination. NMFS must also publish the date that the catch is projected to reach 95 percent of the quota, and the date when prohibitions on catch and landings for the remainder of the fishing year become effective.

The Regional Administrator has determined, based on dealer reports and other available information, that the Illex squid fleet will catch 95 percent of the total Illex squid DAH quota for the 2019 season through December 31, 2019, by August 21, 2019. Therefore, effective 0001 August 21, 2019, federally permitted vessels may not fish for, catch, possess, transfer, or land more than 10,000 lb (4,535 kg) of Illex squid, and may not land Illex squid more than once per calendar day. Vessels that have entered port before 0001 hr on August 21, 2019, may offload and sell more than 10,000 lb (4,535 kg) of Illex squid from that trip. Also, federally permitted dealers may not receive Illex squid from federally permitted Illex squid vessels that harvest more than 10,000 lb (4,535 kg) of Illex squid through 2400 hr, December 31, 2019, unless it is from a trip landed by a vessel that entered port before 0001 hr on August 21, 2019.

Classification

This action is required by 50 CFR part 648 and is exempt from review under Executive Order 12866.

NMFS finds good cause pursuant to 5 U.S.C. 553(b)(B) and 5 U.S.C. 553(d)(3) to waive prior notice and the opportunity for public comment and the delayed effectiveness because it would be contrary to the public interest and impracticable. Data and other information indicating the Illex squid fleet will have landed at least 95 percent of the 2019 DAH quota have only recently become available. Landings data are updated on a weekly basis, and NMFS monitors catch data on a daily basis as catch increases toward the limit. Further, high-volume catch and landings in this fishery increases total catch relative to the quota quickly. The regulations at § 648.24(a)(2) require such action to ensure that Illex squid vessels do not exceed the 2019 DAH quota. If implementation of this action is delayed, the quota for the 2019 fishing year may be exceeded, thereby undermining the conservation objectives of the FMP. Also, the public had prior notice and full opportunity to comment on this process when the provisions regarding closures and the 2019 quota levels were put in place.

Authority: 16 U.S.C. 1801 et seq.

Dated: August 16, 2019.
Alan D. Risenhoover,
Director, Office of Sustainable Fisheries, National Marine Fisheries Service.

[FR Doc. 2019-18029 Filed 8-16-19; 5:05 pm]

BILLING CODE 3510-22-P